DEPARTMENT OF LABOR

Planning Guidance and Instructions for Submission of the Strategic State Plan for Title I of the Workforce Investment Act of 1998 (WIA) and the Wagner-Peyser Act; Extension With Changes to Approved Collection; Comment Request

AGENCY: Employment and Training Administration, Department of Labor.

ACTION: Notice.

SUMMARY: The Department of Labor, as part of its continuing effort to reduce paperwork and respondent burden conducts a pre-clearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning an extension with changes of the collection for the Planning Guidance and Instructions for Submission of the Strategic State Plan for title I of the Workforce Investment Act of 1998 (WIA) and the Wagner-Peyser Act.

A copy of the proposed information collection request (ICR) can be obtained by contacting the office listed below in the addressee section of this notice or by accessing: http://www.doleta.gov/OMBCN/OMBControlNumber.cfm.

DATES: Written comments must be submitted to the office listed in the addressee's section below on or before July 7, 2008.

ADDRESSES: Submit written comments to the Employment and Training Administration, 200 Constitution Avenue, NW., Washington, DC 20210, Attention: Janet Sten, Room C-4510 Telephone number: 202-693-3045 (this is not a toll-free number). Fax: 202-693-3015. E-mail: Sten.Janet@dol.gov.

SUPPLEMENTARY INFORMATION:

I. Background

The purpose of this notice is to provide interested parties with the Planning Guidance for use by States in submitting their Strategic State Plan for title I of the Workforce Investment Act of 1998 and the Wagner-Peyser Act. The Planning Guidance and Instructions provide a framework for the collaboration of governors, local elected officials, businesses and other partners to continue the development of workforce investment systems that address customer needs, deliver integrated user-friendly services, and are accountable to the customers and the public.

The changes to this collection include a revision to the National Strategic Direction which introduces the information collection. This Strategic Direction was previously published in Training and Employment Guidance Letter 13-06. There are also minor technical and grammatical changes in the actual information collection, the State Planning Instructions.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with changes of approved collection.

Agency: Employment and Training Administration.

Title: Planning Guidance and Instructions for Submission of the Strategic State Plan for title I of the Workforce Investment Act of 1998 (WIA) and the Wagner-Peyser Act.

OMB Number: 1205-0398.

Affected Public: [State, Local or Tribal Governments].

Total Respondents: 56.

Total Responses: 56.

Average Time per Response: 50 hours.

Estimated Total Burden Hours: 2,800 Hours.

Total Burden Cost: $0.

Comments submitted in response to this comment request will be summarized and/or included in the request for Office of Management and Budget approval of the information collection request; they will also become a matter of public record.

Dated: April 25, 2008.
Gay M. Gilbert,
Administrator, Office of Workforce Investment, Employment and Training Administration.

[FR Doc. E8-9838 Filed 5-2-08; 8:45 am]

BILLING CODE 4510-FN-P